FEDERAL COMMUNICATIONS COMMISSION

47 CFR Part 73

[DA 00-736, MM Docket No. 00-59, RM-9734]

Radio Broadcasting Services; Cloverdale, Point Arena, CA

AGENCY: Federal Communications Commission.

ACTION: Proposed rule.

SUMMARY: The Commission requests comments on a petition filed by Point Broadcasting, permittee of unbuilt station on Channel 296B1, Point Arena, CA, requesting to substitute Channel 296A for Channel 296B1 at Point Arena, reallot Channel 296A from Point Arena to Cloverdale, CA and modify its construction permit to specify the Class A channel. In view of the fact that our resolution of this proceeding may affect the outcome of MM Docket No. 99-180, it may be necessary ultimately to combine these dockets into a single Report and Order. Channel 296A can be allotted to Cloverdale, CA in compliance with the Commission's minimum distance separation requirements at petitioner's specified site 0.8 kilometers (0.5 miles) south of the community at coordinates 38-48-00 and 123-01-00.

DATES: Comments must be filed on or before May 22, 2000, and reply comments on or before June 6, 2000.

ADDRESSES: Federal Communications Commission, 445 12th Street, SW., Room TW-A325, Washington, DC 20554. In addition to filing comments with the FCC, interested parties should serve the petitioner, or its counsel or consultant, as follows: Jerrold Miller, Miller & Miller, P.C. P.O. Box 33003 Washington, DC 20033 (Counsel to petitioner).

FOR FURTHER INFORMATION CONTACT: Victoria M. McCauley, Mass Media Bureau, (202) 418-2180.

SUPPLEMENTARY INFORMATION: This is a synopsis of the Commission's Notice of Proposed Rule Making, MM Docket No. 00-59 adopted March 22, 2000, and released March 31, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-9613 Filed 4-17-00; 8:45 am]

BILLING CODE 6712-01-P